DEPARTMENT OF HOUSING AND URBAN DEVELOPMENT

[Docket No. FR-7024-N-60]

30-Day Notice of Proposed Information Collection: Grant Drawdown Payment Request/Line of Credit Control System (LOCCS)/eLOCCS OMB Control No.: 2577-0166

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 16, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 23, 2020 at 85 FR 59817.

A. Overview of Information Collection

Title of Information Collection: Grant Drawdown Payment Request/LOCCS/VRS Voice Activated.

OMB Approval Number: 2577-0166.

Type of Request: Extension of a currently approved collection.

Form Numbers: 50080-CFP; 50080-OFND; 50080-SC; 50080-PHTA; 50080-URP; 50080-FSS; 50080-IHBG; 50080-TIHD.

Description of the need for the information and proposed use: On April 17, 2017, the Grant Drawdown Payment Request/Voice Response System (VRS) was converted to a Business Partner Registration and Secure Systems for both the user and the user's Approving Official. The Secure Systems supports many HUD applications, one of which is Line of Credit Control System (eLOCCS) . The eLOCCS is implementing a Single Sign-On solution under Secure Systems, where Grant recipients will be recognized and authenticated based on a Secure System ID and will no longer separately Sign-in to eLOCCS. Grant recipients use LOCCS system to request funds from HUD by signing into Secure Systems, as they normally do, and select the Line of Credit Control System (eLOCCS) link. Some Grantees (all new or reinstated users who need to access eLOCCS) will need to complete the LOCCS HUD-27054E form, have it notarized, send the original HUD-27054E LOCCS Access Authorization Form (with the original signature and notary seal) via U.S. Mail to the Program Office for review. The LOCCS system will automatically generate an Access Authorization email letting the user know that HUD-27054E has been processed, enabling grantees to access their eLOCCS account. The information collected on the payment voucher will also be used as an internal control measure to ensure the lawful and appropriate disbursement of Federal funds as well as provide a service to program recipients.

Below is a link where the HUD-27054E LOCCS Authorized Form can be accessed: http://portal.hud.gov/hudportal/documents/huddoc?id=27054E.pdf.

Respondents: PHAs, state or local government. Tribes and tribally designated housing entities.

Information collection | Number of respondents | Frequency of responses | Responses per annum | Burden hour per response | Annual burden hours | Hourly cost per response * | Annual cost
Capital Fund 50080-CFP | 3,100 | 12 | 37,200 | .2.25 | 9,300 | .224.08 | 233,944.00
Operating Fund 50080-OFND | 3,100 | 12 | 37,200 | .2.25 | 9,300 | .224.08 | 233,944.00
Resident Opportunities and Supportive Services (ROSS) SC 50080-SC | 330 | 12 | 3,960 | .25 | 990 | .224.08 | 23,839.20
Public Housing Technical Assistance 50080-PHTA | 12 | 12 | 144 | .25 | 36 | .224.08 | 866.88
Hope VI 50080-URP | 50 | 12 | 600 | .50 | 300 | .224.08 | 7,224.00
Family Self-Sufficiency 50080-FSS | 700 | 12 | 8,400 | .25 | 2,100 | .224.08 | 50,568.00
Indian Housing Block Grant 50080-IHBG | 361 | 12 | 4,332 | .25 | 1,083 | .224.08 | 26,078.64
Traditional Indian Housing Development 50080-TIHD | 32 | 12 | 384 | .25 | 96 | .224.08 | 2,190.72
Totals | 7,685 | 12 | 92,220 | Varies | 23,205 | 24.08 | $558,776.40

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are respond, including the use of automated collection techniques or other forms of information technology.

HUD encourages interested parties to submit comment in response to these questions.

C. Authority:

Section 3507 of the Paperwork Reduction Act of 1995, 44 U.S.C. 3507.

Colette Pollard,
Department reports Management Officer, Office of the Chief Information Officer.

[FR Doc. 2021-00670 Filed 1-13-21; 8:45 am]

BILLING CODE 4210-67-P